NUCLEAR REGULATORY COMMISSION

[Docket No. 50-286]

Entergy Nuclear Operations, Inc.; Notice of Withdrawal of Application for Amendment to Facility Operating License

The U.S. Nuclear Regulatory Commission (the Commission) has granted the request of Entergy Nuclear Operations, Inc. (the licensee) to withdraw its February 14, 2001, application for proposed amendment to Facility Operating License No. DPR-64 for the Indian Point Nuclear Generating Unit No. 3 (IP3), located in Westchester County, New York.

The proposed amendment would have revised the Technical Specifications to extend the allowed outage time for the emergency diesel generators and the associated fuel oil storage tanks from 72 hours to 14 days on a one-time basis.

The Commission had previously issued a Notice of Consideration of Issuance of Amendment published in the Federal Register on March 21, 2001 (66 FR 15922). However, by letter dated December 5, 2001, the licensee withdrew the proposed change.

Further details with respect to this action, see the application for amendment dated February 14, 2001, as supplemented on July 25, 2001, and the licensee's letter dated December 5, 2001, which withdrew the application for license amendment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/reading-rm./adams.html. Persons who do not have access to ADAMS or who encounter problems in accessing the documents located in ADAMS, should contact the NRC Public Document Room (PDR) Reference staff by telephone at 1-800-397-4209, 301-415-4737 or by email to pdr@nrc.gov.

Dated at Rockville, Maryland, this 8th day of January 2002.
For the Nuclear Regulatory Commission.
Patrick D. Milano,
Sr. Project Manager, Section 1, Project Directorate, Division of Licensing Project Management, Office of Nuclear Reactor Regulation.

[FR Doc. 02-847 Filed 1-11-02; 8:45 am]

BILLING CODE 7590-01-P